SMALL BUSINESS ADMINISTRATION

[Licensee No. 03/73-0220]

Meridian Venture Partners II, L.P.; Notice Seeking Exemption Under Section 312 of the Small Business Investment Act, Conflicts of Interest

Notice is hereby given that Meridian Venture Partners II, L.P., 259 Radnor Chester Road, Suite 140, Radnor, PA 19087, a Federal Licensee under the Small Business Investment Act of 1958, as amended (the “Act”), in connection with the financing of a small concern, has sought an exemption under section 312 of the Act and section 107.730, Financings which Constitute Conflicts of Interest of the Small Business Administration (“SBA”) rules and regulations (13 CFR 107.730 (2000)). Meridian Venture Partners II, L.P. proposes to provide equity/debt financing to Dorland Data Networks, L.P., 1500 Walnut Street, Suite 1000, Philadelphia, PA 19102. The purpose of the financing is to provide additional working capital and to reduce debt.

The financing is brought within the purview of Sec. 107.730(a)(1) of the Regulations because Meridian Venture Partners, an Associate of Meridian Venture Partners II, L.P., currently owns greater than 10 percent of Dorland Data Networks, L.P., and therefore, Dorland Data Networks, L.P., is considered an Associate of Meridian Venture Partners II, L.P. as defined in Sec. 107.50 or the regulations.

Notice is hereby given that any interested person may submit written comments on the transaction to the Associate Administrator for Investment, U.S. Small Business Administration, 409 Third Street, SW, Washington, DC 20416.

Dated: September 20, 2000.
Don A. Christensen,
Associate Administrator for Investment.

[FR Doc. 00-24817 Filed 9-26-00; 8:45 am]

BILLING CODE 8025-01-P